DEPARTMENT OF TRANSPORTATION

Federal Aviation Administration

14 CFR Part 39

[Docket No. 2002-NM-80-AD, Amendment 39-12724; AD 2002-06-53]

RIN 2120-AA64

Airworthiness Directives; Airbus Model A319, A320, A321, A330, and A340 Series Airplanes Equipped With Certain Thales Avionics Digital Distance and Radio Magnetic Indicators (DDRMIs)

AGENCY: Federal Aviation Administration, DOT.

ACTION: Final rule; request for comments.

SUMMARY: This document publishes in the Federal Register an amendment adopting airworthiness directive (AD) 2002-06-53 that was sent previously to all known U.S. owners and operators of Airbus Model A319, A320, A321, A330, and A340 series airplanes equipped with certain Thales Avionics Digital Distance and Radio Magnetic Indicators (DDRMIs) by individual notices. This AD requires deactivation of certain Thales Avionics DDRMIs. This action is prompted by issuance of mandatory continuing airworthiness information by a foreign civil airworthiness authority. The actions specified by this AD are intended to prevent failure of the DDRMI, which could cause the loss of data from the affected computers to other systems and degradation or total failure of the computers, leading to reduced ability to control the airplane in adverse conditions.

DATES: Effective April 29, 2002, to all persons except those persons to whom it was made immediately effective by emergency AD 2002-06-53, issued March 20, 2002, which contained the requirements of this amendment.

The incorporation by reference of certain publications listed in the regulations is approved by the Director of the Federal Register as of April 29, 2002.

Comments for inclusion in the Rules Docket must be received on or before May 22, 2002.

ADDRESSES: Submit comments in triplicate to the Federal Aviation Administration (FAA), Transport Airplane Directorate, ANM-114, Attention: Rules Docket No. 2002-NM-80-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2002-NM-80-AD” in the subject line and need not be submitted in triplicate. Comments sent via the Internet as attached electronic files must be formatted in Microsoft Word 97 for Windows or ASCII text.

The applicable service information may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: On March 20, 2002, the FAA issued emergency AD 2002-06-53, which is applicable to Airbus Model A319, A320, A321, A330, and A340 series airplanes equipped with certain Thales Avionics DDRMIs.

The Direction Ǵeńerale de l'Aviation Civile (DGAC), which is the airworthiness authority for France, recently notified the FAA that an unsafe condition may exist on Airbus Model A319, A320, A321, A330, and A340 series airplanes, equipped with certain Thales Avionics DDRMIs.

The DGAC indicated that several operators have reported DDRMI circuit breaker tripping, followed by the loss of Very High Frequency Omni Range (VOR) and Distance Measuring Equipment (DME) sources for navigation and displays. Investigation has revealed that the DDRMI transformer short-circuited, leading to leakage of 115 volt alternating current (AC) to systems connected to DDRMI ARINC 429 input data busses.

The computers connected to the ARINC 429 bus that may be affected include VOR 1 and 2, DME 1 and 2, Automatic Direction Finder (ADF) 1 and 2, Display Management Computer (DMC) 1 and 2 and 3, Centralized Fault Display Interface Unit (CFDIU), Control and Display Unit—Air Data/Inertial Reference System (CDU-ADIRS), ADIRS 1 and 3, Fuel Quantity Indicating Computer (FQIC), Data Management Unit (DMU), Flight Augmentation Computer (FAC) 2, Flight Management and Guidance Computer (FMGC) 2, Braking and Steering Control Unit (BSCU), Spoiler and Elevator Computer (SEC) 2 and 3, Elevator and Aileron Computer (ELAC) 2, Multi Mode Receiver (MMR) 1, Centralized Maintenance Computer (CMC) 1 and 2, Flight Warning Computer (FWC) 1 and 2, and Multipurpose Control and Display Unit (MCDU) 2.

Failure of the DDRMI, if not corrected, could cause the loss of data from the affected computers to other systems and degradation or total failure of the computers, leading to reduced ability to control the airplane in adverse conditions.

Explanation of Relevant Service Information

Airbus has issued the following All Operators Telexes (AOTs) which describe procedures for deactivation of certain Thales Avionics DDRMIs:

• Airbus AOT A320-34A1262, dated March 19, 2002, applicable to certain Airbus Model A319, A320, and A321 series airplanes;

• Airbus AOT A330-34A3109, dated March 19, 2002, applicable to certain Airbus Model A330 series airplanes; and

• Airbus AOT A340-34A4120, dated March 19, 2002, applicable to certain Airbus Model A340 series airplanes.

The DGAC classified these AOTs as mandatory and issued French airworthiness directives T2002-150(B), dated March 19, 2002, applicable to Airbus Model A319, A320, and A321 series airplanes; and T2002-151(B), dated March 19, 2002, applicable to Airbus Model A330 and A340 series airplanes; in order to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of the Requirements of the Rule

Since the unsafe condition described is likely to exist or develop on other airplanes of the same type design registered in the United States, the FAA issued emergency AD 2002-06-53 to prevent failure of the DDRMI, which could cause the loss of data from the affected computers to other systems and degradation or total failure of the computers, leading to reduced ability to control the airplane in adverse conditions. The AD requires deactivation of certain Thales Avionics DDRMIs. The actions are required to be accomplished in accordance with the applicable Airbus AOT, except as described below.

Corrections to Emergency AD

The FAA has revised paragraph (b) of this AD to indicate that operators must submit requests for approval of alternative methods of compliance to the Manager, International Branch, ANM-116, Transport Airplane Directorate, FAA.

In addition, the FAA has included the date of Airbus AOT A320-34A1262 in the applicability of this AD. That date was inadvertently omitted from the applicability of the emergency AD.

Differences Between Foreign Airworthiness Directives and This AD

The French airworthiness directives apply both to airplanes on which DDRMIs with specified part numbers were installed in production since 1999, and also to other airplanes on which DDRMIs with these same part numbers have been repaired or replaced since 1999. This AD applies to airplanes equipped with Thales Avionics DDRMIs listed in the applicable Airbus AOTs, regardless of repair or replacement status. The FAA has determined that it is possible that a DDRMI could have been repaired or replaced and that the required retention period for maintaining such records may have expired. Therefore, operators may not be able to ascertain whether repair or replacement has been accomplished.

Since the FAA considers the unsafe condition resulting from failure of the DDRMI is far more critical than the operational consequences of deactivating the DDRMI, this AD mandates deactivation of all Thales Avionics DDRMIs listed in the applicable Airbus AOTs. Operators may request authorization to reactivate a particular DDRMI, if they have data to substantiate that the DDRMI is not susceptible to the failure condition identified in this AD.

In addition, the French airworthiness directives specify that dispatch with an inoperative standby compass (Master Minimum Equipment List item 34-22-02a) is limited to a “B” rectification interval. This AD does not contain this restriction because the FAA's Master Minimum Equipment List already limits an inoperative standby compass to a “B” rectification interval.

Since it was found that immediate corrective action was required, notice and opportunity for prior public comment thereon were impracticable and contrary to the public interest, and good cause existed to make the AD effective immediately by individual notices issued on March 20, 2002, to all known U.S. owners and operators of Airbus Model A319, A320, A321, A330, and A340 series airplanes equipped with certain Thales DDRMIs. These conditions still exist, and the AD is hereby published in the Federal Register as an amendment to section 39.13 of the Federal Aviation Regulations (14 CFR 39.13) to make it effective as to all persons.

Interim Action

This AD is considered to be interim action until final action is identified, at which time the FAA may consider further rulemaking.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-80-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-06-53 Airbus Industrie: Amendment 39-12724. Docket 2002-NM-80-AD.

Applicability: Model A319, A320, and A321 series airplanes equipped with Thales Avionics Digital Distance and Radio Magnetic Indicators (DDRMIs) having part numbers specified in paragraph 3.2 of Airbus All Operator Telex (AOT) A320-34A1262, dated March 19, 2002; Model A330 series airplanes equipped with Thales Avionics DDRMIs having part numbers specified in paragraph 3.2 of Airbus AOT A330-34A3109, dated March 19, 2002; and Model A340 series airplanes equipped with Thales Avionics DDRMIs having part numbers specified in paragraph 3.2 of Airbus AOT A340-34A4120, dated March 19, 2002.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent failure of the DDRMI, which could cause the loss of data from the affected computers to other systems and degradation or total failure of the computers, leading to reduced ability to control the airplane in adverse conditions, accomplish the following:

Deactivation of the DDRMI

(a) Within 7 days after the effective date of this AD, deactivate the DDRMI in accordance with Airbus All Operators Telex (AOT) A320-34A1262, dated March 19, 2002; Airbus AOT A330-34A3109, dated March 19, 2002; or Airbus AOT A340-34A4120, dated March 19, 2002; as applicable.

Note 2: Where there are differences between the Minimum Equipment List (MEL) and this AD, this AD prevails.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the Seattle ACO.

Special Flight Permits

(c) Special flight permits may be issued in accordance with sections 21.197 and 21.199 of the Federal Aviation Regulations (14 CFR 21.197 and 21.199) to operate the airplane to a location where the requirements of this AD can be accomplished.

Incorporation by Reference

(d) The action shall be done in accordance with Airbus All Operator Telex A320-34A1262, dated March 19, 2002; Airbus All Operator Telex A330-34A3109, dated March 19, 2002; or Airbus All Operator Telex A340-34A4120, dated March 19, 2002; as applicable. (Only the first page of these documents contains the document number and date; no other page of the documents contains this information.) This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives T2002-150(B) and T2002-151(B), both dated March 19, 2002.

Effective Date

(e) This amendment becomes effective on April 29, 2002, to all persons except those persons to whom it was made immediately effective by emergency AD 2002-06-53, issued March 20, 2002, which contained the requirements of this amendment.

Issued in Renton, Washington, on April 15, 2002.
Kalene C. Yanamura,
Acting Manager, Transport Airplane Directorate, Aircraft Certification Service.

[FR Doc. 02-9614 Filed 4-19-02; 8:45 am]

BILLING CODE 4910-13-U